DEPARTMENT OF COMMERCE

National Oceanic and Atmospheric Administration

RIN 0648-XA605

Endangered Species; File No. 13330-01

AGENCY: National Marine Fisheries Service (NMFS), National Oceanic and Atmospheric Administration (NOAA), Commerce.

ACTION: Issuance of permit modification.

SUMMARY: Notice is hereby given that NMFS Southeast Fisheries Center (SEFSC) (hereinafter “Permit Holder”); 75 Virginia Beach Drive, Miami, FL 33149 [Responsible Party: Bonnie Ponwith, PhD], has been issued a permit modification to take smalltooth sawfish in Florida waters for purposes of scientific research.

ADDRESSES: The permit modification and related documents are available for review upon written request or by appointment in the following offices:

• Permits, Conservation and Education Division, Office of Protected Resources, NMFS, 1315 East-West Highway, Room 13705, Silver Spring, MD 20910; phone (301) 427-8401; fax (301) 713-0376; and

• Southeast Region, NMFS, 263 13th Avenue South, Saint Petersburg, Florida 33701; phone (727) 824-5312; fax (727) 824-5309.

FOR FURTHER INFORMATION CONTACT: Malcolm Mohead or Colette Cairns, (301) 427-8401.

SUPPLEMENTARY INFORMATION: On March 17, 2011, notice was published in the Federal Register (76 FR 14650) that a scientific research permit modification to take smalltooth sawfish had been submitted by the above-named organization. The requested permit modification has been issued under the authority of the Endangered Species Act of 1973, as amended (ESA; 16 U.S.C. 1531 et seq.) and the regulations governing the taking, importing, and exporting of endangered and threatened species (50 CFR parts 222-226).

The primary objective of the permit modification will remain unchanged from the original permit: to collect data on the biology, distribution and abundance of the endangered smalltooth sawfish to facilitate recovery of the species. Sampling with the goal of taking 45 smalltooth sawfish per year is currently authorized by longline, gillnet, seine net, drum (set) lines, or rod and reel throughout Florida's coastal waters, but primarily in the region of the Florida coast from Naples to Key West, encompassing the Ten Thousand Islands. All captured sawfish are also authorized to be handled, measured, tagged, sampled, and released alive. Tagging methods include rototags (fin dart tags, Passive Integrated Transponder (PIT) tags, acoustic tags (transmitters), Pop-Up Archival transmitting (PAT) tags, and Smart Position Only Transmitting (SPOT) tags. Sampling methods also include taking a small genetic tissue fin clip and blood sample. Additionally, dead sawfish acquired through strandings or through law enforcement confiscations are sampled for scientific purposes.

However, to increase tag retention and provide less invasive tagging techniques, the applicant has now been authorized to replace plastic rototags used to secure VEMCO acoustic transmitters with neoprene clasp tags; and nylon umbrella darts used to secure PAT tags will be replaced with dorsal fin harnesses. Additionally, SPOT tags will now be excluded as a tagging method. Better data collection using these modified tagging methods could provide increased insight into habitat usage pattern and accomplish actions items identified in the recovery plan for the species.

Issuance of this permit modification, as required by the ESA, was based on a finding that such permit (1) was applied for in good faith, (2) will not operate to the disadvantage of such endangered or threatened species, and (3) is consistent with the purposes and policies set forth in section 2 of the ESA.

Dated: July 26, 2011.
P. Michael Paine,
Acting Chief, Permits, Conservation and Education Division, Office of Protected Resources, National Marine Fisheries Service.

[FR Doc. 2011-19258 Filed 7-28-11; 8:45 am]

BILLING CODE 3510-22-P